CONSUMER PRODUCT SAFETY COMMISSION

Sunshine Act Meeting

TIME AND DATE: Wednesday, August 28, 2024—10 a.m.

PLACE: The meeting will be held remotely, and in person at 4330 East West Highway, Bethesda, Maryland, 20814.

STATUS: Commission Meeting—Open to the Public.

MATTER TO BE CONSIDERED:

Briefing Matter: Draft Final Rule: Safety Standard for Nursing Pillows.

To attend remotely, please use the following link: https://cpsc.webex.com/cpsc/j.php?MTID=mabf0fe06b00d0be587a7423f84bc8cb1.

CONTACT PERSON FOR MORE INFORMATION: Alberta E. Mills, Office of the Secretary, U.S. Consumer Product Safety Commission, 4330 East West Highway, Bethesda, MD 20814, 301-504-7479 (Office) or 240-863-8938 (Cell).

Dated: August 23, 2024.
Alberta E. Mills,
Commission Secretary.

[FR Doc. 2024-19325 Filed 8-23-24; 4:15 pm]

BILLING CODE P